DEPARTMENT OF ENERGY

Federal Energy Regulatory Commission

Combined Notice of Filings #2

September 26, 2005.

Docket Numbers: ER04-1066-003.

Applicants: Reliant Energy Wholesale Generation, LLC.

Description: Reliant Energy Wholesale Generation, LLC submits its refund report labeled Exhibit 1 in compliance with FERC's 6/24/05 Order.

Filed Date: 09/21/2005.

Accession Number: 20050923-0358.

Comment Date: 5 p.m. Eastern Time on Wednesday, October 12, 2005.

Docket Numbers: ER04-230-017.

Applicants: New York Independent System Operator, Inc.

Description: New York Independent System Operator, Inc. submits compliance filing pursuant to FERC's 8/10/04 Order.

Filed Date: 09/20/2005.

Accession Number: 20050922-0432.

Comment Date: 5 p.m. Eastern Time on Tuesday, October 11, 2005.

Docket Numbers: ER05-1280-001.

Applicants: Strategic Energy, L.L.C.

Description: Strategic Energy, LLC submits revisions to market behavior rule section 2(b) of its FERC Electric Tariff, First Revised Rate Schedule No. 1.

Filed Date: 09/21/2005.

Accession Number: 20050922-0431.

Comment Date: 5 p.m. Eastern Time on Wednesday, October 12, 2005.

Docket Numbers: ER05-1337-001.

Applicants: San Diego Gas & Electric Company.

Description: San Diego Gas & Electric Company Annual Transmission formula rate change filing for retail and wholesale rates.

Filed Date: 09/21/2005.

Accession Number: 20050921-5017.

Comment Date: 5 p.m. Eastern Time on Wednesday, October 12, 2005.

Docket Numbers: ER05-1355-001.

Applicants: Lowell Power, LLC.

Description: Lowell Power LLC submits an amendment to the 8/16/05 filing of Notice of Cancellation of its market-based rate authority.

Filed Date: 09/21/2005.

Accession Number: 20050922-0428.

Comment Date: 5 p.m. Eastern Time on Wednesday, October 12, 2005.

Docket Numbers: ER05-1401-001.

Applicants: Midwest Independent Transmission System Operator, Inc.

Description: The Midwestern Independent Transmission System Operator, Inc submits an amendment to its 8/29/05 filing of the Interconnection & Operating Agreement with Arnold Windfarm, LLC.

Filed Date: 09/20/2005.

Accession Number: 20050922-0430.

Comment Date: 5 p.m. Eastern Time on Tuesday, October 11, 2005.

Docket Numbers: ER05-1492-000.

Applicants: Xcel Energy Services Inc.

Description: Xcel Energy Services Inc submits the Interconnection Agreement dated 10/7/04 for the Browntown Substation Point of Connecton with the City of Browntown, Minnesota.

Filed Date: 09/20/2005.

Accession Number: 20050921-0081.

Comment Date: 5 p.m. Eastern Time on Tuesday, October 11, 2005.

Docket Numbers: ER05-1493-000.

Applicants: FirstEnergy Service Company.

Description: FirstEnergy Service Company on behalf of American Transmission Systems, Inc submits proposed revisions to its ATSI Open Access Transmission Tariff.

Filed Date: 09/20/2005.

Accession Number: 20050922-0143.

Comment Date: 5 p.m. Eastern Time on Tuesday, October 11, 2005.

Docket Numbers: ER05-1494-000.

Applicants: Platte-Clay Electric Cooperative, Inc.

Description: Platte-Clay Electric Cooperative, Inc. advises that due to amendments of section 201(f) of the Federal Power Act, it is no longer a public utility.

Filed Date: 09/20/2005.

Accession Number: 20050923-0365.

Comment Date: 5 p.m. Eastern Time on Tuesday, October 11, 2005.

Docket Numbers: ER05-1495-000.

Applicants: American Electric Power Service Corporation.

Description: American Electric Power Service Corp, agent for Appalachian Power Co submits a Facilities, Operating Maintenance and Repair Agreement with Virginia Polytechnic Institute and State University.

Filed Date: 09/21/2005.

Accession Number: 20050923-0362.

Comment Date: 5 p.m. Eastern Time on Wednesday, October 12, 2005.

Docket Numbers: ER05-1496-000.

Applicants: American Electric Power Service Corporation.

Description: American Electric Power Service Corp on behalf of American Electric Power System submits and requests acceptance of an Interconnection and Local Delivery Agreement.

Filed Date: 09/21/2005.

Accession Number: 20050923-0361.

Comment Date: 5 p.m. Eastern Time on Wednesday, October 12, 2005.

Docket Numbers: ER05-1497-000.

Applicants: Dearborn Industrial Generation, L.L.C.

Description: Dearborn Industrial Generation, LLC amends its existing cost-based tariff et al.

Filed Date: 09/21/2005.

Accession Number: 20050923-0370.

Comment Date: 5 p.m. Eastern Time on Wednesday, October 12, 2005.

Docket Numbers: ER97-2846-007.

Applicants: Florida Power Corporation.

Description: Florida Power Corp notifies FERC that it has entered into a contract effective 12/1/05 for the purchase of 133 MW of capacity from Central Power & Lime Co pursuant to FERC's Order 652 .

Filed Date: 09/21/2005.

Accession Number: 20050923-0359.

Comment Date: 5 p.m. Eastern Time on Wednesday, October 12, 2005.

Any person desiring to intervene or to protest in any of the above proceedings must file in accordance with Rules 211 and 214 of the Commission's Rules of Practice and Procedure (18 CFR 385.211 and 385.214) on or before 5 p.m. Eastern Time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E5-5389 Filed 9-30-05; 8:45 am]

BILLING CODE 6717-01-P